FEDERAL COMMUNICATIONS COMMISSION

Notice of Public Information Collection(s) Being Reviewed by the Federal Communications Commission

October 27, 2004.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before December 6, 2004. If you anticipate that you will be submitting comments, but find it difficult to do so within the period of time allowed by this notice, you should advise the contact listed below as soon as possible.

ADDRESSES: Direct all comments regarding this Paperwork Reduction Act submission to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0508.

Title: Rewrite of Part 22.

Form No.: N/A.

Type of Review: Revision of a currently approved collection.

Respondents: Individuals or households and business or other for-profit.

Number of Respondents: 44,127.

Estimated Time Per Response: .084—40 hours.

Frequency of Response: On occasion, semi-annual, annual and quarterly reporting requirements and recordkeeping requirement.

Total Annual Burden: 62,835 hours.

Total Annual Cost: $6,643,050.

Privacy Act Impact Assessment: Yes.

Needs and Uses: On February 12, 2004, the Commission released an Order on Reconsideration, in WT Docket No. 01-108, FCC 04-22, in which it affirmed much of the conclusions made in the Report and Order. The Commission, however, reconsidered and adopted a proposal to permit existing cellular radiotelephone licensees to extend to adjacent unserved areas of less than fifty (50) square miles on a secondary basis without modifying their existing cellular geographic service area. Section 1.929 of the rules provides that an application or amendment is classified as minor or major. A carrier seeking to extend into adjacent unserved areas must generally seek approval from the Commission by filing a major modification. Pursuant to the Order on Reconsideration, a carrier that seeks to extend in adjacent unserved areas on a secondary basis need only file a minor amendment. The cellular licensee must indicate on FCC Form 601, Main Form, Item 7 that it is filing a minor amendment; and submit Schedules D and F of the FCC Form 601. Additionally, the Commission eliminated information collection requirements in Sections 22.130 and 22.323. Sections 1.949, 1.955, 1.957 and 22.946(a) are now included in this information collection.

OMB Control No.: 3060-0626.

Title: Regulatory Treatment of Mobile Services—Sections 90.168, 90.425 and 90.483.

Form No.: N/A.

Type of Review: Revision of a currently approved collection.

Respondents: Business or other for-profit.

Number of Respondents: 2,985.

Estimated Time Per Response: 1-10 hours.

Frequency of Response: On occasion, annual and one-time reporting requirements, third party disclosure requirement, and recordkeeping requirement.

Total Annual Burden: 13,515 hours.

Total Annual Cost: $1,328,000.

Privacy Act Impact Assessment: N/A.

Needs and Uses: The Commission revised this information collection because changes that have occurred are due to the elimination of rule section requirements in Section 20.6(e)(3), which, as of January 1, 2003, were no longer effective. Further, Section 22.313 has been eliminated from this information collection and incorporated into the part 22 collection (above, OMB Control Number 3060-0508). Section 90.449 has been eliminated as duplicative of the requirements in 47 CFR Section 1.89 of the Commission's rules involving “Notices of Violation”. Such notices are handled by the FCC's Enforcement Bureau and are processed on a case-by-case basis. Therefore, it does not meet the criteria for PRA requirements.

Federal Communications Commission.
Marlene H. Dortch,
Secretary.

[FR Doc. 04-24747 Filed 11-4-04; 8:45 am]

BILLING CODE 6712-01-P